DEPARTMENT OF VETERANS AFFAIRS

[OMB Control No. 2900-0768]

Agency Information Collection (Joint Application for Comprehensive Assistance and Support Services for Family Caregivers) Activity Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before September 29, 2011.

ADDRESSES: Submit written comments on the collection of information through http://www.Regulations.gov; or to VA's OMB Desk Officer, OMB Human Resources and Housing Branch, New Executive Office Building, Room 10235, Washington, DC 20503 (202) 395-7316. Please refer to “OMB Control No. 2900-0768” in any correspondence.

FOR FURTHER INFORMATION CONTACT: Denise McLamb, Enterprise Records Service (005R1B), Department of Veterans Affairs, 810 Vermont Avenue, NW., Washington, DC 20420, (202) 461-7485, fax (202) 461-0966 or e-mail denise.mclamb@va.gov. Please refer to “OMB Control No. 2900-0768.”

SUPPLEMENTARY INFORMATION:

Title: Joint Application for Comprehensive Assistance and Support Services for Family Caregivers, VA Form 10-10CG.

OMB Control Number: OMB Control No. 2900-0768.

Type of Review: Extension of a previously approved collection.

Abstracts: VA Form 10-10CG is completed by Veterans who served in Operation Enduring Freedom/Operation Iraqi Freedom/Operation New Dawn or active duty service member undergoing medical discharge to determine their eligibility to receive certain medical, travel, training, and financial benefits under the Caregiver Program. Individuals designated as primary or secondary family caregiver also complete VA Form 10-10CG to determine whether they meet the criteria to serve as caregiver and their eligibility receive stipend and certain benefits under the Caregiver Program.

An agency may not conduct or sponsor, and a person is not required to respond to a collection of information unless it displays a currently valid OMB control number. The Federal Register Notice with a 60-day comment period soliciting comments on this collection of information was published on June 14, 2011, at pages 34812-34813.

Affected Public: Individuals or households.

Estimated Total Annual Burden: 1,250 hours.

Estimated Average Burden per Respondent: 15 minutes.

Frequency of Response: On occasion.

Estimated Number of Respondents: 5,000.

Dated: August 24, 2011.
By direction of the Secretary.
Denise McLamb,
Program Analyst, Enterprise Records Service.

[FR Doc. 2011-22020 Filed 8-29-11; 8:45 am]

BILLING CODE 8320-01-P